DEPARTMENT OF COMMERCE

National Oceanic and Atmospheric Administration

50 CFR Part 680

[Docket No. 240529-0147]

RIN 0648-BM81

Fisheries of the Exclusive Economic Zone; Bering Sea and Aleutian Islands Crab Rationalization Program; Correction

AGENCY: National Marine Fisheries Service (NMFS), National Oceanic and Atmospheric Administration (NOAA), Commerce.

ACTION: Final rule; correction.

SUMMARY: On June 4, 2024, NMFS published a final rule to implement amendment 55 to the Fishery Management Plan for Bering Sea and Aleutian Islands King and Tanner Crabs (Crab FMP). The final rule inadvertently omitted amendatory instructions for regulations implementing amendment 55 for custom processing exemptions. This correction fixes these errors.

DATES: Effective on July 5, 2024.

FOR FURTHER INFORMATION CONTACT: Andrew Olson, 907-586-7228, andrew.olson@noaa.gov.

SUPPLEMENTARY INFORMATION: The final rule to implement amendment 55 to the Crab FMP (89 FR 47872, June 4, 2024) inadvertently omitted amendatory instructions to remove paragraphs 50 CFR 680.42(b)(7) and (8). NMFS is now correcting the final rule to reflect this omission and renumbering the amendatory instructions for subsequent changes to § 680.42.

Correction

In FR Doc. 2024-12230, published on June 4, 2024, at 89 FR 47872, on page 47877, in the third column, amendatory instruction 7 is corrected to read as follows:

§ 680.42 [Corrected]

7. Effective July 5, 2024, amend § 680.42 by:

a. Removing the phrase “more than” in paragraph (a)(3)(i) introductory text;

b. Removing the phrase “more than” and adding in its place the phrase “PQS in excess of” in the first sentence of paragraph (b)(1)(i);

c. Revising paragraphs (b)(1)(ii)(A) and (B);

d. Adding paragraph (b)(1)(ii)(C);

e. Revising paragraphs (b)(2) introductory text, (b)(2)(ii), and (b)(3);

f. Removing paragraphs (b)(7) and (8);

g. Redesignating paragraphs (b)(4) through (6) as paragraphs (b)(7) through (9);

h. Adding new paragraphs (b)(4) through (6);

i. Removing the reference to “(b)(4)(iv)” and adding in its place “(b)(7)(iv)” in newly redesignated paragraph (b)(7) introductory text;

j. Removing “paragraph (b)(4) of this section” and adding in its place “this paragraph (b)(7)” in newly redesignated paragraph (b)(7)(iv); and

k. Removing “(b)(4)” and adding in its place “(b)(7)” in newly redesignated paragraph (b)(8) introductory text.

Dated: June 21, 2024.
Samuel D. Rauch III,
Deputy Assistant Administrator for Regulatory Programs, National Marine Fisheries Service.

[FR Doc. 2024-14092 Filed 6-26-24; 8:45 am]

BILLING CODE 3510-22-P